DEPARTMENT OF HOMELAND SECURITY

Coast Guard

33 CFR Part 165

[Docket No. USCG-2018-0957]

Multiple Safety Zones; Fireworks Displays in Captain of the Port New York Zone

AGENCY: Coast Guard, DHS.

ACTION: Notice of enforcement of regulation.

SUMMARY: The Coast Guard will enforce a safety zone within the Captain of the Port New York Zone on the specified date and times. This action is necessary to ensure the safety of vessels, spectators and participants from hazards associated with fireworks displays and swim events. During the enforcement period, no person or vessel may enter the safety zones without permission of the Captain of the Port (COTP).

DATES: The regulation for the safety zone described in 33 CFR 165.160 will be enforced on the date and times listed in the table below.

FOR FURTHER INFORMATION CONTACT: If you have questions on this notice of enforcement, call or email Petty Officer First Class Ronald Sampert U.S. Coast Guard; telephone 718-354-4197, email ronald.j.sampert@uscg.mil.

SUPPLEMENTARY INFORMATION: The Coast Guard will enforce the safety zones listed in 33 CFR 165.160 on the specified date and time as indicated in Table 1 below. This regulation was published in the Federal Register on November 9, 2011 (76 FR 69614).

Table 1
1. Pyro Engineering Inc., Liberty Island Safety Zone, 33 CFR 165.160 (2.1) | • Launch site: A barge located in approximate position 40°41′16.5″ N 074°02′23″ W (NAD 1983), located in Federal Anchorage 20-C, about 360 yards east of Liberty Island. This Safety Zone is a 360-yard radius from the barge.
| • Date: November 29, 2018.
| • Time: 10:00 p.m.-11:30 p.m.
2. Circle Line Sightseeing Yachts NYE, Liberty Island Safety Zone, 3 CFR 165.160 (2.1) | • Launch site: A barge located in approximate position 40°41′16.5″ N 074°02′23″ W (NAD 1983), located in Federal Anchorage 20-C, about 360 yards east of Liberty Island. This Safety Zone is a 360-yard radius from the barge.
| • Date: December 31, 2018-January 1, 2019.
| • Time: 11:00 p.m.-01:00 a.m.

Under the provisions of 33 CFR 165.160, vessels may not enter the safety zones unless given permission from the COTP or a designated representative. Spectator vessels may transit outside the safety zones but may not anchor, block, loiter in, or impede the transit of other vessels. The Coast Guard may be assisted by other Federal, State, or local law enforcement agencies in enforcing this regulation.

This notice of enforcement is issued under authority of 33 CFR 165.160(a) and 5 U.S.C. 552(a). In addition to this notice in the Federal Register, the Coast Guard will provide mariners with advanced notification of enforcement periods via the Local Notice to Mariners and marine information broadcasts.

If the COTP determines that a safety zone need not be enforced for the full duration stated in this notice of enforcement, a Broadcast Notice to Mariners may be used to grant general permission to enter the safety zone.

Dated: October 3, 2018.
J.P. Tama,
Captain, U.S. Coast Guard, Captain of the Port New York.

[FR Doc. 2018-24573 Filed 11-8-18; 8:45 am]

BILLING CODE 9110-04-P